DEPARTMENT OF AGRICULTURE

Forest Service

Information Collection; Research Data Archive Use Tracking

AGENCY: Forest Service, USDA.

ACTION: Notice; request for comment.

SUMMARY: In accordance with the Paperwork Reduction Act of 1995, the Forest Service is seeking comments from all interested individuals and organizations on the currently approved information collection, Research Data Archive Use Tracking.

DATES: Comments must be received in writing on or before December 13, 2010 to be assured of consideration. Comments received after that date will be considered to the extent practicable.

ADDRESSES: Comments concerning this notice should be addressed to USDA Forest Service, Dave Rugg, 1 Gifford Pinchot Drive, Madison, WI 53726-2366. Comments also may be submitted via e-mail to: drugg@fs.fed.us.

The public may inspect comments received at Forest Service—Forest Products Laboratory, 1 Gifford Pinchot Drive, Madison, WI, during normal business hours. Visitors are encouraged to call ahead to 608-231-9234 to facilitate entry to the building.

FOR FURTHER INFORMATION CONTACT: Dave Rugg, Forest Service, Northern Research Station, 608-231-9234. Individuals who use telecommunication devices for the deaf (TDD) may call the Federal Relay Service (FRS) at 1-800-877-8339 between 8 a.m. and 8 p.m., Eastern Standard Time, Monday through Friday.

SUPPLEMENTARY INFORMATION: Title: Research Data Archive Use Tracking.

OMB Number: 0596-0210.

Expiration Date of Approval: 04/30/2011.

Type of Request: Extension with no Revision.

Abstract: The Forest Service Research and Development (FS R&D) group has created a data archive to store and disseminate data collected in the course of its scientific research. Preparing data sets for the archive requires significant effort from researchers. The Forest Service has an obligation to encourage ethical use of archived FS R&D data sets and needs to know how others are using the archived data sets. This information assists FS R&D personnel in evaluating the research program. Information about the use of the products of a scientist's research is of significant importance in scientist performance evaluations.

When a member of the public requests a copy of a data set, FS R&D will collect the following information: Name; affiliation; contact information (including e-mail address); Statement of Intended Use; and Data Use Agreement. The Data Use Agreement and associated information collection closely follow the data access structure used by the National Science Foundation's Long Term Ecological Research network. FS R&D managers believe that this structure provides a sound balance between meeting obligations to its scientific staff and ease-of-access by the research community. The Statement of Intended Use will not determine access to a particular data set. A form at the archive web site will collect the information and the data set author will use the Data Use Agreements to describe the impact of research accomplishments prior to performance appraisals.

The collection of Data Use Agreements will be evaluated by the data archiving program to identify opportunities for improving the archive's function and offerings. The FS R&D communications office will use the agreements to assist in assessing the effectiveness of FS R&D research and technology transfer.

The FS R&D data archive is a new activity and participation is voluntary. This information collection is a critical component in the campaign to encourage Forest Service scientists to deposit their research data in the archive system. Sharing research data is very useful to the broader research community and sharing of well documented FS R&D data sets via the archive will be impossible without this information collection.

Estimate of Annual Burden: 10-15 minutes per respondent.

Type of Respondents: Scientists, particularly in fields studying natural resources; resource specialists in nonprofits and other government agencies.

Estimated Annual Number of Respondents: 200.

Estimated Annual Number of Responses per Respondent: 1.

Estimated Total Annual Burden on Respondents: 50 hours.

Comment Is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: October 7, 2010.
Carlos Rodriguez-Franco,
Acting Deputy Chief, Research and Development.

[FR Doc. 2010-25861 Filed 10-13-10; 8:45 am]

BILLING CODE 3410-11-P